ENVIRONMENTAL PROTECTION AGENCY

[FRL-9628-01-OA]

Request for Nominations for the Science Advisory Board Radionuclide Cancer Risk Coefficients Review Panel

AGENCY: Environmental Protection Agency (EPA).

ACTION: Notice.

SUMMARY: The Environmental Protection Agency (EPA) Science Advisory Board (SAB) Staff Office requests public nominations of scientific experts to form a Panel to review the draft EPA document titled Cancer Risk Coefficients for Environmental Exposure to Radionuclides (Federal Guidance Report No. 16). This draft document is an update to Federal Guidance Report No. 13, and provides new radionuclide-specific cancer risk coefficients for incidence and mortality associated with internal radionuclide exposure from ingestion and inhalation, and external exposure to radionuclides distributed in air, water, and soil.

DATES: Nominations should be submitted by April 11, 2022 per the instructions below.

FOR FURTHER INFORMATION CONTACT: Any member of the public wishing further information regarding this Notice and Request for Nominations may contact Dr. Diana Wong, Designated Federal Officer (DFO), EPA Science Advisory Board Staff Office by telephone/voice mail (202) 564-2049, or email at wong.diana-m@epa.gov. General information concerning the EPA SAB can be found at the EPA SAB website at https://sab.epa.gov.

SUPPLEMENTARY INFORMATION: Background: The SAB (42 U.S.C. 4365) is a chartered Federal Advisory Committee that provides independent scientific and technical peer review, advice, and recommendations to the EPA Administrator on the technical basis for EPA actions. As a Federal Advisory Committee, the SAB conducts business in accordance with the Federal Advisory Committee Act (FACA) (5 U.S.C. App. 2) and related regulations. The SAB Staff Office is forming an expert panel, the Radionuclide Cancer Risk Coefficients (RCRC) Review Panel, under the auspices of the Chartered SAB. The RCRC Review Panel will provide advice through the chartered SAB. The SAB and the RCRC Review Panel will comply with the provisions of FACA and all appropriate SAB Staff Office procedural policies.

The Radionuclide Cancer Risk Coefficients (RCRC) Review Panel will conduct the review of Cancer Risk Coefficients for Environmental Exposure to Radionuclides (Federal Guidance Report No. 16) prepared by the EPA's Office of Radiation and Indoor Air. Federal Guidance Report No. 16 (FGR 16) is part of a series designed to provide technical information for use in implementing radiation protection programs. FGR 16 provides radionuclide-specific cancer risk coefficients for incidence and mortality associated with internal radionuclide exposure from ingestion and inhalation, and external exposure to radionuclides distributed in air, water, and soil.

Federal Guidance Report No. 13 (1999) provided cancer risk coefficients for environmental exposures to approximately 835 radionuclides. FGR 16 updates and expands the set of risk coefficients to 1,252 radionuclides. FGR 16 includes updated dosimetric data, biokinetic models, nuclear decay data, usage rates, U.S. population statistics, and cancer models from EPA Radiogenic Cancer Risk Models and Projections for the U.S. Population (2011), known as the “Blue Book.” FGR 16 is intended for audiences who need to estimate risks to the U.S. population from environmental exposures to radionuclides.

Request for Nominations: The SAB Staff Office is seeking nominations of nationally and internationally recognized scientists, mathematicians, and engineers with demonstrated expertise and experience in the following disciplines: Radionuclide biokinetic modeling, radiation epidemiology, computational dosimetry, radiobiology, and statistics/biostatistics.

Process and Deadline for Submitting Nominations: Any interested person or organization may nominate qualified individuals in the areas of expertise described above for possible service on the SAB Panel. Individuals may self-nominate. Nominations should be submitted in electronic format (preferred) using the online nomination form on the SAB website at https://sab.epa.gov (see the “Public Input on Membership” list under “Committees, Panels, and Membership”). To be considered, nominations should include the information requested below. EPA values and welcomes diversity. All qualified candidates are encouraged to apply regardless of sex, race, disability or ethnicity. Nominations should be submitted in time to arrive no later than April 11, 2022.

The following information should be provided on the nomination form: Contact information for the person making the nomination; contact information for the nominee; and the disciplinary and specific areas of expertise of the nominee. Nominees will be contacted by the SAB Staff Office and will be asked to provide a recent curriculum vitae and a narrative biographical summary that includes: Current position; educational background; research activities; sources of research funding for the last two years; and recent service on other national advisory committees or national professional organizations. Persons having questions about the nomination procedures, or who are unable to submit nominations through the SAB website, should contact the DFO at the contact information noted above. The names and biosketches of qualified nominees identified by respondents to this Federal Register notice, and additional experts identified by the SAB Staff Office, will be posted in a List of Candidates for the Panel on the SAB website at https://sab.epa.gov. Public comments on the List of Candidates will be accepted for 21 days. The public will be requested to provide relevant information or other documentation on nominees that the SAB Staff Office should consider in evaluating candidates.

For the EPA SAB Staff Office, a balanced review panel includes candidates who possess the necessary domains of knowledge, the relevant scientific perspectives (which, among other factors, can be influenced by work history and affiliation), and the collective breadth of experience to adequately address the charge. In forming the expert panel, the SAB Staff Office will consider public comments on the Lists of Candidates, information provided by the candidates themselves, and background information independently gathered by the SAB Staff Office. Selection criteria to be used for panel membership include: (a) Scientific and/or technical expertise, knowledge, and experience (primary factors); (b) availability and willingness to serve; (c) absence of financial conflicts of interest; (d) absence of an appearance of a loss of impartiality; (e) skills working in committees, subcommittees and advisory panels; and (f) for the panel as a whole, diversity of expertise and scientific points of view.

The SAB Staff Office's evaluation of an absence of financial conflicts of interest will include a review of the “Confidential Financial Disclosure Form for Environmental Protection Agency Special Government Employees” (EPA Form 3110-48). This confidential form is required and allows government officials to determine whether there is a statutory conflict between a person's public responsibilities (which include membership on an EPA federal advisory committee) and private interests and activities, or the appearance of a loss of impartiality, as defined by federal regulation. The form may be viewed and downloaded through the “Ethics Requirements for Advisors” link on the SAB website at https://sab.epa.gov. This form should not be submitted as part of a nomination.

The approved policy under which the EPA SAB Office selects members for subcommittees and review panels is described in the following document: Overview of the Panel Formation Process at the Environmental Protection Agency Science Advisory Board (EPA-SAB-EC-02-010), which is posted on the SAB website at https://sab.epa.gov.

Thomas H. Brennan,
Director, Science Advisory Board Staff Office.

[FR Doc. 2022-05871 Filed 3-18-22; 8:45 am]

BILLING CODE 6560-50-P